DEPARTMENT OF DEFENSE

Department of the Army

Availability for Non-Exclusive, Exclusive, or Partially Exclusive Licensing of U.S. Patent Concerning DNA Vaccines Against Tick-Borne Flaviviruses

AGENCY: U.S. Army Medical Research and Materiel Command, DOD.

ACTION: Notice.

SUMMARY: In accordance with 37 CFR 404.6, announcement is made of the availability for licensing of U.S. Patent No. 6,258,788 entitled “DNA Vaccines Against Tick-Borne Flaviviruses” issued 07/10/01. Foreign rights also available (PCT/US98/25322). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301 619-5034.

SUPPLEMENTARY INFORMATION: Particle mediated immunization of tick-borne flavivirus genes confers homologous and heterologous protection against tick borne encephalitis.

Luz D. Ortiz,
Army Federal Register Liaison Officer.

[FR Doc. 02-1642 Filed 1-22-02; 8:45 am]

BILLING CODE 3710-08-M